DEPARTMENT OF TRANSPORTATION

Surface Transportation Board

[Docket No. FD 35838]

Wisconsin & Southern Railroad, L.L.C.—Acquisition and Operation Exemption—City of Fitchburg and Village of Oregon, WI

AGENCY: Surface Transportation Board, DOT.

ACTION: Notice of acquisition and operation exemption.

SUMMARY: The Board is granting an exemption under 49 U.S.C. 10502 from the prior approval requirements of 49 U.S.C. 10902 for the Wisconsin & Southern Railroad, L.L.C. (WSOR), a Class II rail carrier, to acquire and operate a permanent, exclusive freight rail operating easement over an approximately 15-mile line of railroad (the Line) owned by the City of Fitchburg and the Village of Oregon, Wis. (the Municipalities). The Line, also known as the Evansville Line, extends between milepost 119.0, near Evansville, Wis., and milepost 134.0, near “MX” (a crossing of WSOR near Madison, Wis.), in Dane, Green, and Rock Counties. WSOR states that there has been no freight rail traffic on the Line since 1997. However, WSOR asserts that the Wisconsin River Rail Transit Commission (WRRTC), which describes itself as a governmental entity representing a consortium of nine Wisconsin counties, has recently been notified that a shipper seeking rail service is locating in the Village of Oregon. Consequently, WRRTC has requested that WSOR initiate service over the Line. WSOR states that it will enter into an agreement with the Municipalities whereby WSOR will acquire the exclusive rail freight easement for resumption of rail operations. The Board is also granting WSOR's request for a waiver of the employee notice requirements of 49 CFR 1121.4(h). This exemption is subject to standard labor protective conditions.

DATES: This exemption will be effective on December 18, 2014. Petitions to stay must be filed by November 28, 2014. Petitions to reopen must be filed by December 8, 2014.

ADDRESSES: Send an original and 10 copies of all pleadings referring to FD 35838 to: Surface Transportation Board, 395 E Street SW., Washington, DC 20423-0001. In addition, one copy of all pleadings must be served on WSOR's representative: Karl Morell, Of Counsel, BALL JANIK LLP, Suite 225, 655 Fifteenth Street NW., Washington, DC 20005, and on all other parties of record in Docket No. FD 35838.

FOR FURTHER INFORMATION CONTACT: Jonathon Binet, (202) 245-0368. Assistance for the hearing impaired is available through the Federal Information Relay Service (FIRS) at (800) 877-8339. Copies of written filings will be available for viewing and self-copying at the Board's Public Docket Room, Room 131, and will be posted to the Board's Web site.

SUPPLEMENTARY INFORMATION: Additional information is contained in the Board's decision served on November 18, 2014, which is available on our Web site at www.stb.dot.gov.

Decided: November 17, 2014.
By the Board, Chairman Elliott, Vice Chairman Miller, and Commissioner Begeman.
Jeffrey Herzig,
Clearance Clerk.

[FR Doc. 2014-27511 Filed 11-19-14; 8:45 am]

BILLING CODE 4915-01-P